DEPARTMENT OF DEFENSE

Office of the Secretary

Defense Science Board

Correction

In notice document 02-28106 beginning on page 67605 in the issue of Wednesday, November 6, 2002, make the following correction:

On page 67605, in the third column, under the heading SUMMARY, in the first paragraph, in the second and third lines, the date “January 20-30” should read, “January 29-30.”

[FR Doc. C2-28106 Filed 12-11-02; 8:45 am]

BILLING CODE 1505-01-D

ENVIRONMENTAL PROTECTION AGENCY

40 CFR Part 81

[MA-075-7209a; A-1-FRL-7374-7]

Approval and Promulgation of Air Quality Implementation Plans; Massachusetts; Approval of PM10 State Implementation Plan (SIP) Revisions and Designation of Areas for Air Quality Planning Purposes

Correction

In rule document 02-25154 beginning on page 62184 in the issue of Friday, October 4, 2002, make the following corrections:

§ 81.322 [Corrected]

1. On page 62188, in § 81.322, in the table, in the first column, under the heading “Designated area”, in the fourth entry, “Gratton” should read, “Grafton”.

2. On page 62189, in the same section, in the same table, in the same column, under the same heading, in the sixth entry, “Stonehamd” should read, “Stoneham”.

[FR Doc. C2-25154 Filed 12-11-02; 8:45 am]

BILLING CODE 1505-01-D